DEPARTMENT OF THE TREASURY

Office of Thrift Supervision

Securities Offering Disclosures

AGENCY: Office of Thrift Supervision (OTS), Treasury.

ACTION: Notice and request for comment.

SUMMARY: The proposed information collection request (ICR) described below has been submitted to the Office of Management and Budget (OMB) for review and approval, as required by the Paperwork Reduction Act of 1995. OTS is soliciting public comments on the proposal.

DATES: Submit written comments on or before July 9, 2010. A copy of this ICR, with applicable supporting documentation, can be obtained from RegInfo.gov at http://www.reginfo.gov/public/do/PRAMain.

FOR FURTHER INFORMATION CONTACT: For further information or to obtain a copy of the submission to OMB, please contact Ira L. Mills at, ira.mills@ots.treas.gov (202) 906-6531, or facsimile number (202) 906-6518, Regulations and Legislation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: Securities Offering Disclosures.

OMB Number: 1550-0035.

Form Number: SEC Forms S-1, S-3, S-4, S-8, 144, and OTS Form G-12.

Regulation requirement: 12 CFR 563g.

Description: The Securities Offering regulation provides necessary information, including financial disclosure, to persons to make an informed investment decision regarding a possible purchase or sale of a savings association's securities. Further, OTS's regulation sets standards for disclosure to reduce the risk of a fraudulent securities offering that could adversely affect the public or the safety and soundness of a savings association.

Type of Review: Extension of a currently approved collection.

Affected Public: Business or other for-profit.

Estimated Number of Respondents: 13.

Estimated Burden Hours per Response: 20 to 208 hours for the SEC Forms and 1 hour for the OTS Form G-12.

Estimated Frequency of Response: On occasion.

Estimated Total Burden: 860 hours.

Clearance Officer: Ira L. Mills, (202) 906-6531, Office of Thrift Supervision, 1700 G Street, NW., Washington, DC 20552.

Dated: June 4, 2010.
Ira L. Mills,
Paperwork Clearance Officer, Office of Chief Counsel, Office of Thrift Supervision.

[FR Doc. 2010-13885 Filed 6-8-10; 8:45 am]

BILLING CODE 6720-01-P